DEPARTMENT OF TRANSPORTATION

Federal Aviation Administration

Notice of Intent To Rule on Request To Release Airport Property at the Tacoma Narrows Airport

AGENCY: Federal Aviation Administration (FAA), DOT.

ACTION: Notice of Request to Release Airport Property.

SUMMARY: The FAA proposes to rule and invite public comment on the release of land at the Tacoma Narrows Airport under the provisions of section 125 of the Wendell H. Ford Aviation Investment Reform Act for the 21st Century (AIR 21).

DATES: Comments must be received on or before November 13, 2009.

ADDRESSES: Comments on this application may be mailed or delivered to the FAA at the following address: Ms. Carol Suomi, Manager, Federal Aviation Administration, Northwest Mountain Region, Airports Division, Seattle Airports District Office, 1601 Lind Ave SW., Suite 250, Renton, WA 98057.

In addition, one copy of any comments submitted to the FAA must be mailed or delivered to Mr. Michael D. Esher, Airports/Ferry Administrator, Department of Public Works and Utilities, 9850 64th Street West, University Place, WA 98467.

FOR FURTHER INFORMATION CONTACT: Mr. Roman Piñon, Project Manager, Federal Aviation Administration, Northwest Mountain Region, Airports Division, Seattle Airports District Office, 1601 Lind Ave SW., Suite 250, Renton, WA 98057.

The request to release property may be reviewed in person at this same location.

SUPPLEMENTARY INFORMATION: The FAA invites public comment on the request to release property at the Tacoma Narrows Airport under the provisions of the AIR 21.

On July 6, 2009, the FAA determined that the request to release property at the Tacoma Narrows Airport submitted by Peninsula Metropolitan Park District (PenMet Parks) met the procedural requirements of the Federal Aviation Regulations, part 155. The FAA may approve the request, in whole or in part, no later than November 13, 2009.

The following is a brief overview of the request: The Tacoma Narrows Airport requests the release of 79.00 acres of non-aeronautical airport property to PenMet Parks, Gig Harbor/Pierce County, Washington. The purpose of this release is to allow PenMet Parks to own, manage and operate the Madrona Golf Course for the benefit of the public. The property will remain subject to the restrictions associated with the aviation reserve designation and will therefore; have no consequence to the airport.

Any person may inspect the request by appointment at the FAA office listed above under FOR FURTHER INFORMATION CONTACT.

In addition, any person may, inspect the application, notice and other documents germane to the application in person at the Tacoma Narrows Airport, 1202 26th Ave NW., Gig Harbor, WA 98335.

Issued in Renton, Washington on September 28, 2009.
Karen Miles,
Acting Manager, Seattle Airports District Office.

[FR Doc. E9-24225 Filed 10-6-09; 8:45 am]

BILLING CODE 4910-13-P